DEPARTMENT OF ENERGY

[OE Docket No. EA-336]

Application to Export Electric Energy; ConocoPhillips Company

AGENCY: Office of Electricity Delivery and Energy Reliability, DOE.

ACTION: Notice of Application.

SUMMARY: ConocoPhillips Company (CoP) has applied for authority to transmit electric energy from the United States to Mexico pursuant to section 202(e) of the Federal Power Act (FPA).

DATES: Comments, protests, or requests to intervene must be submitted on or before April 10, 2008.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the DOE Organization Act (42 U.S.C. 7151(b), 7172(f)) and require authorization under section 202(e) of the FPA (16 U.S.C.824a(e)).

On January 23, 2008, DOE received an application from CoP for authority to transmit electric energy from the United States to Mexico as a power marketer. CoP has requested an electricity export authorization with a 5-year term. CoP does not own any electric transmission facilities nor does it hold a franchised service area. CoP and certain of its affiliates own electric generating facilities, primarily cogeneration facilities located at CoP-owned refinery facilities. The electric energy which CoP proposes to export to Mexico would be surplus energy purchased from electric utilities, Federal power marketing agencies, and other entities within the United States.

In its application, CoP notified DOE that it had been exporting electric energy to Mexico since September 2004 without authorization under section 202(e) of the FPA. CoP asserts that during the time it was making these exports, it was unaware of the requirement to obtain prior authorization from DOE. CoP claims that it first became aware of this requirement in connection with an internal review of its reporting and filing obligations in January 2008. CoP ceased all further electricity exports as of January 16, 2008, and commits to not engage in any further electricity exports pending approval of the application in this proceeding. In connection with its application, CoP submitted a notarized affidavit from its Vice President attesting to these facts and commitment.

CoP will arrange for the delivery of exports to Mexico over the international transmission facilities owned by AEP Texas Central, El Paso Electric Company, Central Power & Light Company, San Diego Gas & Electric Company, Sharyland Utilities, and Comision Federal de Electricidad, the national electric utility of Mexico. The construction, operation, maintenance, and connection of each of the international transmission facilities to be utilized by CoP was previously authorized by a Presidential permit issued pursuant to Executive Order 10485, as amended.

DOE expects exporters of electric energy to obtain the necessary authorization from DOE to export electricity and to abide by the terms and conditions established for such export in the Orders issued by DOE, including any term limit for the authorization and the requirement to create and preserve full and complete records and file quarterly reports. Failure to first obtain an Order authorizing the export of electricity, or continuing to export after the expiration of such an Order, may result in a denial of authorization to export in the future and subject the exporter to sanctions and penalties under the FPA. DOE also expects transmitting utilities owning border facilities and entities charged with the operational control of those border facilities, such as Independent System Operators or Regional Transmission Organizations, to verify that companies seeking to schedule an electricity export have the requisite authority from DOE to export such power.

DOE notes that CoP shall have no authority to export electricity to Mexico unless and until DOE grants such authorization at the conclusion of this proceeding.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each comment, petition, and protest should be filed with DOE on or before the dates listed above.

All filings in this proceeding should be clearly marked with Docket No. EA-336. Additional copies are to be filed directly with Michael Passaretti, Manager, Regulatory Monitoring & Reporting, ConocoPhillips Company, 600 North Dairy Ashford, Houston, TX 77079 AND Daniel E. Frank, Sutherland Asbill & Brennan LLP, 1275 Pennsylvania Avenue, NW., Washington, DC 20004.

A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://oe.energy.gov/permits.htm, or by e-mailing Odessa Hopkins at Odessa.hopkins@hq.doe.gov.

Issued in Washington, DC, on March 5, 2008.
Anthony J. Como,
Director, Permitting and Siting, Office of Electricity Delivery and Energy Reliability.

[FR Doc. E8-4842 Filed 3-10-08; 8:45 am]

BILLING CODE 6450-01-P